NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twelve meetings, by videoconference, of the Humanities Panel, a federal advisory committee, during July 2020. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. DATE: July 20, 2020

This video meeting will discuss applications for Fellowships for Advanced Social Science Research on Japan, submitted to the Division of Research Programs.

2. DATE: July 23, 2020

This video meeting will discuss applications on the topics of Social Sciences and History, for the Awards for Faculty grant program, submitted to the Division of Research Programs.

3. DATE: July 24, 2020

This video meeting will discuss applications on the topics of Global Studies and Politics, for the Awards for Faculty grant program, submitted to the Division of Research Programs.

4. DATE: July 27, 2020

This video meeting will discuss applications on the topics of American History and Religion, for the Awards for Faculty grant program, submitted to the Division of Research Programs.

5. DATE: July 27, 2020

This video meeting will discuss applications on the topics of American History, Communication, and Media, for the Fellowships grant program, submitted to the Division of Research Programs.

6. DATE: July 28, 2020

This video meeting will discuss applications on the topics of Arts and Literature, for the Awards for Faculty grant program, submitted to the Division of Research Programs.

7. DATE: July 28, 2020

This video meeting will discuss applications on the topics of Literature, Philosophy, and European History, for the Awards for Faculty grant program, submitted to the Division of Research Programs.

8. DATE: July 29, 2020

This video meeting will discuss applications on the topics of Literature, Media, and Communications, for the Awards for Faculty grant program, submitted to the Division of Research Programs.

9. DATE: July 30, 2020

This video meeting will discuss applications on the topics of African, Middle Eastern, and Asian Studies, for the Fellowships grant program, submitted to the Division of Research Programs.

10. DATE: July 30, 2020

This video meeting will discuss applications on the topics of American History and Environmental Studies, for the Fellowships grant program, submitted to the Division of Research Programs.

11. DATE: July 31, 2020

This video meeting will discuss applications on the topics of Latin American Studies and American History, for the Fellowships grant program, submitted to the Division of Research Programs.

12. DATE: July 31, 2020

This video meeting will discuss applications on the topics of Social Sciences and History of Science, for the Fellowships grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 8, 2020.
Caitlin Cater,
Attorney-Advisor, National Endowment for the Humanities.

[FR Doc. 2020-12694 Filed 6-11-20; 8:45 am]

BILLING CODE 7536-01-P